COMMITTEE FOR THE IMPLEMENTATION OF TEXTILE AGREEMENTS

Announcement of Import Restraint Limits for Certain Cotton, Wool, Man-Made Fiber, Silk Blend and Other Vegetable Fiber Textiles and Textile Products Produced or Manufactured in Indonesia

November 15, 2000.

AGENCY: Committee for the Implementation of Textile Agreements (CITA).

ACTION: Issuing a directive to the Commissioner of Customs establishing limits.

EFFECTIVE DATE: January 1, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The import restraint limits for textile products, produced or manufactured in Indonesia and exported during the period January 1, 2001 through December 31, 2001 are based on limits notified to the Textiles Monitoring Body pursuant to the Uruguay Round Agreement on Textiles and Clothing (ATC), a Memorandum of Understanding (MOU) dated November 1, 1996 between the Governments of the United States and Indonesia, and an exchange of notes dated December 10, 1997 and January 9, 1998.

In the letter published below, the Chairman of CITA directs the Commissioner of Customs to establish the 2001 limits. Certain limits have been reduced for carryforward that was applied to the 2000 limits.

A description of the textile and apparel categories in terms of HTS numbers is available in the CORRELATION: Textile and Apparel Categories with the Harmonized Tariff Schedule of the United States (see Federal Register notice 64 FR 71982, published on December 22, 1999). Information regarding the 2001 CORRELATION will be published in the Federal Register at a later date.

Richard B. Steinkamp,
Chairman, Committee for the Implementation of Textile Agreements.

Committee for the Implementation of Textile Agreements

November 15, 2000.

Commissioner of Customs,

Department of the Treasury, Washington, DC 20229.

Dear Commissioner: Pursuant to section 204 of the Agricultural Act of 1956, as amended (7 U.S.C. 1854); Executive Order 11651 of March 3, 1972, as amended; the Uruguay Round Agreement on Textiles and Clothing (ATC); a Memorandum of Understanding dated November 1, 1996 between the Governments of the United States and Indonesia, and an exchange of notes dated December 10, 1997 and January 9, 1998, you are directed to prohibit, effective on January 1, 2001, entry into the United States for consumption and withdrawal from warehouse for consumption of cotton, wool, man-made fiber, silk blend and other vegetable fiber textiles and textile products in the following categories, produced or manufactured in Indonesia and exported during the twelve-month period beginning on January 1, 2001 and extending through December 31, 2001, in excess of the following levels of restraint:

Category | Twelve-month restraint limit
Levels in Group I |
200 | 1,079,015 kilograms.
219 | 11,986,133 square meters.
225 | 8,393,402 square meters.
300/301 | 4,846,176 kilograms.
313-O ¹ | 21,748,710 square meters.
314-O ² | 75,941,057 square meters.
315-O ³ | 34,506,203 square meters.
317-O ⁴/326-O ⁵/617 | 33,328,017 square meters of which not more than 4,924,577 square meters shall be in Category 326-O.
331/631 | 2,891,603 dozen pairs.
334/335 | 280,458 dozen.
336/636 | 740,147 dozen.
338/339 | 1,430,944 dozen.
340/640 | 1,762,244 dozen.
341 | 1,059,905 dozen.
342/642 | 440,561 dozen.
345 | 512,453 dozen.
347/348 | 1,938,470 dozen.
350/650 | 215,434 dozen.
351/651 | 572,729 dozen.
359-C/659-C ⁶ | 1,771,940 kilograms.
359-S/659-S ⁷ | 1,865,199 kilograms.
360 | 1,568,392 numbers.
361 | 1,568,392 numbers.
369-S ⁸ | 1,144,941 kilograms.
433 | 11,293 dozen.
443 | 83,781 numbers.
445/446 | 59,670 dozen.
447 | 17,811 dozen.
448 | 20,634 dozen.
604-A ⁹ | 890,504 kilograms.
611-O ¹⁰ | 5,584,421 square meters.
613/614/615 | 31,615,143 square meters.
618-O ¹¹ | 7,460,802 square meters.
619/620 | 10,925,921 square meters.
625/626/627/628/629-O ¹² | 35,285,143 square meters.
634/635 | 352,449 dozen.
638/639 | 1,832,737 dozen.
641 | 2,843,876 dozen.
643 | 392,100 numbers.
644 | 548,937 numbers.
645/646 | 981,600 dozen.
647/648 | 3,842,163 dozen.
847 | 513,809 dozen.
Group II |
201, 218, 220, 222-224, 226, 227, 237, 239pt. ¹³, 332, 333, 352, 359-O ¹⁴, 362, 363, 369-O ¹⁵, 400, 410, 414, 431, 434, 435, 436, 438, 440, 442, 444, 459pt. ¹⁶, 464, 469pt. ¹⁷, 603, 604-O ¹⁸, 606, 607, 621, 622, 624, 633, 649, 652, 659-O ¹⁹, 666, 669-O ²⁰, 670-O ²¹, 831, 833-836, 838, 840, 842-846, 850-852, 858 and 859pt. ²², as a group | 128,605,725 square meters equivalent.
Subgroup in Group II
400, 410, 414, 431, 434, 435, 436, 438, 440, 442, 444, 459pt., 464 and 469pt., as a group | 2,957,255 square meters equivalent.
In Group II subgroup
435 | 46,426 dozen.
¹ Category 313-O: all HTS numbers except 5208.52.3035, 5208.52.4035 and 5209.51.6032.
² Category 314-O: all HTS numbers except 5209.51.6015.
³ Category 315-O: all HTS numbers except 5208.52.4055.
⁴ Category 317-O: all HTS numbers except 5208.59.2085.
⁵ Category 326-O: all HTS numbers except 5208.59.2015, 5209.59.0015 and 5211.59.0015.
⁶ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁷ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.
⁸ Category 369-S: only HTS number 6307.10.2005.
⁹ Category 604-A: only HTS number 5509.32.0000.
¹⁰ Category 611-O: all HTS numbers except 5516.14.0005, 5516.14.0025 and 5516.14.0085.
¹¹ Category 618-O: all HTS numbers except 5408.24.9010 and 5408.24.9040.
¹² Category 625/626/627/628; Category 629-O: all HTS numbers except 5408.34.9085 and 5516.24.0085.
¹³ Category 239pt.: only HTS number 6209.20.5040 (diapers).
¹⁴ Category 359-O: all HTS numbers except 6103.42.2025, 6103.49.8034, 6104.62.1020, 6104.69.8010, 6114.20.0048, 6114.20.0052, 6203.42.2010, 6203.42.2090, 6204.62.2010, 6211.32.0010, 6211.32.0025 and 6211.42.0010 (Category 359-C); 6112.39.0010, 6112.49.0010, 6211.11.8010, 6211.11.8020, 6211.12.8010 and 6211.12.8020 (Category 359-S) and 6406.99.1550 (Category 359pt.).
¹⁵ Category 369-O: all HTS numbers except 6307.10.2005 (Category 369-S); 5601.10.1000, 5601.21.0090, 5701.90.1020, 5701.90.2020, 5702.10.9020, 5702.39.2010, 5702.49.1020, 5702.49.1080, 5702.59.1000, 5702.99.1010, 5702.99.1090, 5705.00.2020 and 6406.10.7700 (Category 369pt.).
¹⁶ Category 459pt.: all HTS numbers except 6405.20.6030, 6405.20.6060, 6405.20.6090, 6406.99.1505 and 6406.99.1560.
¹⁷ Category 469pt.: all HTS numbers except 5601.29.0020, 5603.94.1010 and 6406.10.9020.
¹⁸ Category 604-O: all HTS numbers except 5509.32.0000 (Category 604-A).
¹⁹ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6112.31.0010, 6112.31.0020, 6112.41.0010, 6112.41.0020, 6112.41.0030, 6112.41.0040, 6211.11.1010, 6211.11.1020, 6211.12.1010, 6211.12.1020 (Category 659-S); 6406.99.1510 and 6406.99.1540 (Category 659pt.).
²⁰ Category 669-O: all HTS numbers except 6305.32.0010, 6305.32.0020, 6305.33.0010, 6305.33.0020, 6305.39.0000 (Category 669-P); 5601.10.2000, 5601.22.0090, 5607.49.3000, 5607.50.4000 and 6406.10.9040 (Category 669pt.).
²¹ Category 670-O: all HTS numbers except 4202.12.8030, 4202.12.8070, 4202.92.3020, 4202.92.3031, 4202.92.9026 and 6307.90.9907 (Category 670-L).
²² Category 859pt.: only HTS numbers 6115.19.8040, 6117.10.6020, 6212.10.5030, 6212.10.9040, 6212.20.0030, 6212.30.0030, 6212.90.0090, 6214.10.2000 and 6214.90.0090.

The limits set forth above are subject to adjustment pursuant to the provisions of the ATC and administrative arrangements notified to the Textiles Monitoring Body.

Products in the above categories exported during 2000 shall be charged to the applicable category limits for that year (see directive dated October 4, 1999) to the extent of any unfilled balances. In the event the limits established for that period have been exhausted by previous entries, such products shall be charged to the limits set forth in this directive.

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

Richard B. Steinkamp,

Chairman, Committee for the Implementation of Textile Agreements.

[FR Doc. 00-29742 Filed 11-20-00; 8:45 am]

BILLING CODE 3510-DR-F